DEPARTMENT OF DEFENSE

Department of the Navy

Notice of Intent To Grant Partially Exclusive Patent License; Silvanus, LLC

AGENCY: Department of the Navy, DoD.

ACTION: Notice.

SUMMARY: The Department of the Navy hereby gives notice of its intent to grant to Silvanus, LLC. a revocable, nonassignable, partially exclusive license to practice in the United States, the Government-owned invention described in U.S. Patent 8,408,460 (Navy Case 100000): issued April 2, 2013, entitled “Auto Adjusting Ranging Device”.

DATES: Anyone wishing to object to the grant of this license must file written objections along with supporting evidence, if any, not later than September 26, 2013.

ADDRESSES: Written objections are to be filed with Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404.

Dated: September 3, 2013.
N.A. Hagerty-Ford,
Commander, Office of the Judge Advocate General, U.S. Navy, Federal Register Liaison Officer.

[FR Doc. 2013-22139 Filed 9-10-13; 8:45 am]

BILLING CODE 3810-FF-P